DEPARTMENT OF COMMERCE

Bureau of Industry and Security

15 CFR Parts 742 and 744

[Docket No. 161206999-6999-01]

RIN 0694-AH25

Russian Sanctions: Addition of Certain Entities to the Entity List, and Clarification of License Review Policy

AGENCY: Bureau of Industry and Security, Commerce.

ACTION: Final rule.

SUMMARY: The Bureau of Industry and Security (BIS) amends the Export Administration Regulations (EAR) by adding twenty-three entities to the Entity List. The twenty-three entities who are added to the Entity List have been determined by the U.S. Government to be acting contrary to the national security or foreign policy interests of the United States. BIS is taking this action to ensure the efficacy of existing sanctions on the Russian Federation (Russia) for violating international law and fueling the conflict in eastern Ukraine. These entities will be listed on the Entity List under the destinations of Russia and the Crimea region of Ukraine.

In addition to the Entity List changes described above, this final rule revises the licensing policy in three sections of the Commerce Control List (CCL)-based controls in the EAR to clarify that BIS's review of license applications for exports, reexports and transfers (in-country) to Russia will take into account and protect U.S. national security interests.

DATES: This rule is effective December 27, 2016.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (Supplement No. 4 to part 744 of the EAR) identifies entities and other persons reasonably believed to be involved in, or that pose a significant risk of being or becoming involved in, activities that are contrary to the national security or foreign policy of the United States. The EAR imposes additional licensing requirements on, and limits the availability of most license exceptions for, exports, reexports, and transfers (in-country) to those persons or entities listed on the Entity List. The license review policy for each listed entity is identified in the License Review Policy column on the Entity List and the impact on the availability of license exceptions is described in the Federal Register notice adding entities or other persons to the Entity List. BIS places entities on the Entity List based on certain sections of part 744 (Control Policy: End-User and End-Use Based) and part 746 (Embargoes and Other Special Controls) of the EAR.

The End-user Review Committee (ERC) is composed of representatives of the Departments of Commerce (Chair), State, Defense, Energy, and where appropriate, the Treasury. The ERC makes decisions to add an entry to the Entity List by majority vote and to remove or modify an entry by unanimous vote. The Departments represented on the ERC have approved these changes to the Entity List.

Entity List Additions

Additions to the Entity List

This rule implements the decision of the ERC to add twenty-three entities to the Entity List. These twenty-three entities are being added on the basis of § 744.11 (License requirements that apply to entities acting contrary to the national security or foreign policy interests of the United States) of the EAR. The twenty-three entries being added to the Entity List consist of two entries in the Crimea region of Ukraine, and twenty-one entries in Russia.

Under § 744.11(b) (Criteria for revising the Entity List) of the EAR, persons for whom there is reasonable cause to believe, based on specific and articulable facts, have been involved, are involved, or pose a significant risk of being or becoming involved in, activities that are contrary to the national security or foreign policy interests of the United States and those acting on behalf of such persons may be added to the Entity List. The entities being added to the Entity List have been determined to be involved in activities that are contrary to the national security or foreign policy interests of the United States. Specifically, in this rule, BIS adds entities to the Entity List for violating international law and fueling the conflict in eastern Ukraine. These additions ensure the efficacy of existing sanctions on Russia. The specific additions to the Entity List and related authorities are as follows:

A. Entity Additions Consistent With Executive Order 13661

Fifteen entities are added based on activities that are described in Executive Order 13661 (79 FR 15533), Blocking Property of Additional Persons Contributing to the Situation in Ukraine, issued by the President on March 16, 2014. This Order expanded the scope of the national emergency declared in Executive Order 13660, finding that the actions and policies of the Government of the Russian Federation with respect to Ukraine—including the deployment of Russian military forces in the Crimea region of Ukraine—undermine democratic processes and institutions in Ukraine; threaten its peace, security, stability, sovereignty, and territorial integrity; and contribute to the misappropriation of its assets, and thereby constitute an unusual and extraordinary threat to the national security and foreign policy of the United States.

Executive Order 13661 includes a directive that all property and interests in property that are in the United States, that hereafter come within the United States, or that are or thereafter come within the possession or control of any United States person (including any foreign branch) of the following persons are blocked and may not be transferred, paid, exported, withdrawn, or otherwise dealt in: Persons determined by the Secretary of the Treasury, in consultation with the Secretary of State to have either materially assisted, sponsored or provided financial, material or technological support for, or goods and services to or in support of a senior official of the government of the Russian Federation or to operate in the defense or related materiel sector in Russia. Under Section 8 of the Order, all agencies of the United States Government are directed to take all appropriate measures within their authority to carry out the provisions of the Order.

BIS, pursuant to Executive Order 13661, and in consultation with the Departments of State, Defense, Energy, and the Treasury, has designated the fifteen entities specified in the next two paragraphs.

Seven subsidiaries of Almaz-Antey Air Defense Concern Main System Design Bureau, JSC, an entity listed on the Entity List on September 17, 2014 (79 FR 55608), as follows: DJSC Factory Krasnoe Znamya; FSUE FNPC Nizhegorodsky Scientific Research Institute of Radiotechnics (NNIIRT); OAO All-Russia Research Institute of Radio Equipment (JSC VNIIRA); JSC GOZ Obukhov Plant; JSC Institute of Instrumentation—Novosibirsk Plant Comintern (NPO NIIP-NZIK); OJSC Ural Production Company Vector (UPP Vector); and Scientific and Production Association “Lianozovo Electromechanical Plant” (NPO LEMZ).

Eight subsidiaries of Joint-Stock Company Concern Radio-Electronic Technologies, an entity listed on the Entity List on July 22, 2014 (79 FR 42455), as follows: ElTom Research and Production Company; Ekran Scientific Research Institute, FSUE; JSC Scientific Research Institute of Aircraft Equipment (NIIAO); Kaluga Scientific Research Radio Technology Institute (KRRTI); Research and Production Association KVANT; Research and Production Association M.V. Frunze; Ryazan State Instrument Enterprise (RSIE); and Svyaz Design Bureau, OJSC.

The fifteen entities added to the Entity List under Executive Order 13661 meet the criteria of Section 1, subparagraph B of the Order, as did the two parent entities identified above and added to the Entity List in 2014, because they operate in Russia's arms or related materiel sector. BIS adds the thirteen entities to the Entity List under this rule, and imposes a license requirement for exports, reexports, or transfers (in-country) of all items subject to the EAR and a license review policy of presumption of denial. The license requirement applies to any transaction in which items are to be exported, reexported, or transferred (in-country) to any of the entities or in which such entities act as purchaser, intermediate consignee, ultimate consignee, or end-user. In addition, no license exceptions are available for exports, reexports, or transfers (in-country) to the persons being added to the Entity List in this rule. This license requirement implements an appropriate measure within the authority of the EAR to carry out the provisions of Executive Order 13661.

B. Entity Additions Consistent With Executive Order 13685

Eight entities are added based on activities that are described in Executive Order 13685 (79 FR 77357), Blocking Property of Certain Persons and Prohibiting Certain Transactions with Respect to the Crimea Region of Ukraine, issued by the President on December 19, 2014. This Order took additional steps to address the Russian occupation of the Crimea region of Ukraine with respect to the national emergency declared in Executive Order 13660 of March 6, 2014, and expanded in Executive Order 13661 of March 16, 2014, and Executive Order 13662 of March 20, 2014. In particular, Executive Order 13685 prohibited the export, reexport, sale or supply, directly or indirectly, from the United States or by a U.S. person, wherever located, of any goods, services, or technology to the Crimea region of Ukraine. Under Section 10 of the Order, all agencies of the United States Government are directed to take all appropriate measures within their authority to carry out the provisions of the Order.

The Department of the Treasury's Office of Foreign Assets Control (OFAC), pursuant to Executive Order 13685 on behalf of the Secretary of the Treasury and in consultation with the Secretary of State, has designated the following eight entities operating in the Crimea region of Ukraine: Crimean Ports; Crimean Railway; Institut Stroiproekt, AO; Karst, OOO; LLC Ruschemtrade; OLID Ltd.; Trans-Flot JSC; and Transpetrochart Co. Ltd. Four of these entities (LLC Ruschemtrade; OLID Ltd.; Trans-Flot JSC; and Transpetrochart Co. Ltd.) are also linked to OJSC Sofracht. OJSC Sovfracht was added to the Entity List on September 7, 2016 (81 FR 61601) and is an OFAC-designated Specially Designated National (SDN).

In conjunction with OFAC's designation of the eight entities, BIS adds all eight of the entities to the Entity List under this rule and imposes a license requirement for exports, reexports, or transfers (in-country) of all items subject to the EAR and a license review policy of presumption of denial. The license requirement applies to any transaction in which items are to be exported, reexported, or transferred (in-country) to any of the entities or in which such entities act as purchaser, intermediate consignee, ultimate consignee, or end-user. In addition, no license exceptions are available for exports, reexports, or transfers (in-country) to the persons being added to the Entity List in this rule. This license requirement implements an appropriate measure within the authority of the EAR to carry out the provisions of Executive Order 13685.

The acronyms “a.k.a.” (also known as) and “f.k.a.” (formerly known as) are used in entries on the Entity List to help exporters, reexporters and transferors to better identify listed persons on the Entity List.

This final rule adds the following twenty-three entities to the Entity List:

Crimea Region of Ukraine

(1) Crimean Ports, a.k.a., the following three aliases:

—State Unitary Enterprise of the Republic of Crimea `Crimean Ports';

—Sue RC `KMP'; and

—Sue RK `Crimean Ports'.

28 Kirov Street, Kerch, Crimea Region of Ukraine 98312; and

(2) Crimean Railway, a.k.a., the following three aliases:

—Federal State Unitary Enterprise `Crimean Railway';

—Krymzhd; and

—The Railways of Crimea.

34 Pavlenko Street, Simferopol, Crimea Region of Ukraine 95006.

Russia

(1) DJSC Factory Krasnoe Znamya, a.k.a., the following five aliases:

—OJSC Factory Krasnoe Znamya;

—OAO Zavod Krasnoe Znamya;

—AO Krasnoye Znamya;

—Krasnoye Znamya Plant OAO; and

—Krasnoye Znamya Plant JSC.

Shabulina Travel 2a, Ryazan, 390043, Russia;

(2) Ekran Scientific Research Institute, FSUE, a.k.a., the following one alias:

—FGUP Ekran.

Kirov Avenue 24, Samara 443022, Russia; and Krzhizhanovskogo Street 20/30, Moscow, 117218, Russia;

(3) ElTom Research and Production Company, a.k.a., the following one alias:

—NPP ElTom.

Garshin Street 11, Tomilino, Lyuberetsky, Moscow, 140070, Russia;

(4) FSUE FNPC Nizhegorodsky Scientific Research Institute of Radiotechnics (NNIIRT),

Shaposhnikov Street 5, Nizhny Novgorod, 603950, Russia;

(5) Institut Stroiproekt, AO, a.k.a., the following six aliases:

—Aktsionernoe Obshcestvo Institut Stroiproekt;

—AO Institut Stroiproekt;

—AO Institute Stroyproekt (f.k.a., Institut Stroiproekt Zakrytoe Aktsionernoe Obshchestvo);

—Institute Stroyproect;

—Stroyproekt; and

—Stroyproekt Engineering Group.

D. 13 Korp. 2 LiteraA Prospekt Dunaiski, St. Petersburg 196158, Russia; and 13/2 Dunaisky Prospect, St. Petersburg 196158, Russia;

(6) JSC GOZ Obukhov Plant, a.k.a., the following one alias:

—GOZ Obukhov Plant.

Prospekt Obukhovskoi Oboroni 120, Saint Petersburg, 192012, Russia;

(7) JSC Institute of Instrumentation—Novosibirsk Plant Comintern (NPO NIIP-NZIK),

Planetnaya Street 32, Novosibirsk, 630015, Russia;

(8) JSC Scientific Research Institute of Aircraft Equipment (NIIAO), a.k.a., the following three aliases:

—SRIAE;

—NIIAO; and

—Aviation Instrument Scientific Research Institute.

Tupoleva 18, Zhukovsky, Moscow, 140182, Russia;

(9) Kaluga Scientific Research Radio Technology Institute (KRRTI), a.k.a., the following two aliases:

—KNIRTI; and

—KRRTI.

Lenin Street 2, Zhukov, Kaluga Oblast, 249192, Russia;

(10) Karst, OOO, a.k.a., the following four aliases:

—Construction Holding Company Old City—Karst;

—Karst Ltd.;

—LLC Karst; and

—Obshcestvo S Ogranichennoi Otvetstvennostyu Karst.

D. 4 Litera A Pomeshchenie 69 ul. Kapitanskaya, St. Petersburg 199397, Russia; and 4 Kapitanskaya Street, Unit A, Office 69-N, St. Petersburg 199397, Russia;

(11) LLC Ruschemtrade,

St. Mashinostroitelnyj, 3, Rostov-on-Don 344090, Russia; and 86/1, Temryuk, Krasnodar 353500, Russia;

(12) OAO All-Russia Research Institute of Radio Equipment (JSC VNIIRA), a.k.a., the following three aliases:

—OJSC VNIIRA;

—OAO All-Russia Research Institute of Radio Technology; and All-Russian Scientific Research Institute of Radio Equipment.

Shkipersky Protok 19, V.I. St. Petersburg, 199106, Russia;

(13) OJSC Ural Production Company Vector (UPP Vector), a.k.a., the following two aliases:

—JSC `SCP' Vector; and

—JSC PPM Vector.

Gagarin Street 28, Ekaterinburg, 620078, Russia;

(14) Olid Ltd., a.k.a., the following one alias:

—OOO Solid.

ul Mira 4, Novorossiysk, Krasnodarskiy kray 630024, Russia;

(15) Research and Production Association KVANT, a.k.a., the following one alias:

—NPO Kvant.

Bolshaya Saint Petersburg 73, Velikii-Novgorod 173003, Russia;

(16) Research and Production Association M.V. Frunze, a.k.a., the following two aliases:

—NNPO Frunze; and

—NZIF.

Gagarin Prospect 174, Nizhny Novgorod, 606950, Russia;

(17) Ryazan State Instrument Enterprise (RSIE), a.k.a., the following two aliases:

—RSIE; and

—GRPZ.

Seminarskaya Street 32, Ryazan, 390000, Russia;

(18) Scientific and Production Association “Lianozovo Electromechanical Plant” (NPO LEMZ), a.k.a., the following four aliases:

—JSC LEMZ R&P Corporation;

—OAO Design Bureau Lianozovsky Radars Moscow;

—Lianozovsky Electromechanical factory; and

—OAO Design Bureau Lianozovsky Radars Moscow.

Dmitrovskoye Shosse 110, Moscow, 127411, Russia;

(19) Svyaz Design Bureau, OJSC, a.k.a., the following one alias:

—KB Svyaz.

Prospect Sokolova 96, Rostov-on-Don 344010, Russia;

(20) Trans-Flot JSC, a.k.a., the following one alias:

—JSC Trans-Flot.

ul Ventseka 1/97, Samara 443099, Russia; and

(21) Transpetrochart Co. Ltd.,

Prospekt Engelsa 30, St. Petersburg 194156, Russia.

Changes to CB, NP and NS Licensing Policy To Reflect That Certain License Applications for CB and NP Items to Russia Will Be Reviewed in Accordance With NS Licensing Policy

In addition to the Entity List changes described above, this final rule revises the licensing policy in three sections of part 742 of the EAR to clarify that BIS's review of license applications for exports, reexports and transfers (in-country) to Russia will take into account and protect U.S. national security interests.

Part 742 of the EAR specifies the licensing policy for CCL based controls. The licensing policies in the respective sections of part 742 provide applicants with advance notice of the likelihood of any particular license application's approval or denial. In addition to considering the licensing policies described in these CCL based controls, BIS reviews each application on its own merits, taking into account the bona fides of the parties involved in the transaction, as well as whether the transaction would be detrimental to U.S. national security and foreign policy interests or not, and considering recent international events that may be relevant to whether the U.S. Government should approve or deny a license application.

In this final rule, BIS revises the CCL based controls sections of the EAR to clarify that it will review license applications to export or reexport to Russia items subject to the EAR and controlled for chemical and biological weapons proliferation (CB), nuclear nonproliferation (NP) or national security (NS) reasons under a presumption of denial, if the items proposed for export or reexport would make a direct and significant contribution to Russia's military capabilities. This final rules revises §§ 742.2 and 742.3 of the EAR to clarify that license applications for items controlled for CB and NP reasons will be reviewed in accordance with the revised licensing policies in paragraph (b)(4) of both §§ 742.2 and 742.3 and with the revised licensing policy in paragraph (b)(7) of § 742.4 of the EAR. This rule revises § 742.4(b)(7) of the EAR to clarify that license applications for items controlled for NS reasons will be reviewed under a presumption of denial if the items would make a direct and significant contribution to Russia's military capabilities, including but not limited to, the major weapons systems described in Supplement No. 7 to part 742 of the EAR.

BIS is imposing this review policy in order to protect U.S. national security interests and to ensure the efficacy of existing sanctions on Russia for violating international law and fueling the conflict in eastern Ukraine. These changes will also assist applicants because they provide advance warning that BIS's review of license applications will specifically take into account these considerations that are needed in order to protect U.S. national security interests.

As noted above, the U.S. Government has already been taking into account these national security concerns when reviewing license applications for items subject to the EAR proposed for shipment to Russia. Therefore, BIS does not anticipate that the changes in this final rule will result in an increase in the number of license applications for items destined to Russia that are denied. However, BIS anticipates that license applicants will benefit by this clarification of existing policy in part 742 of the EAR.

Export Administration Act

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 4, 2016, 81 FR 52587 (August 8, 2016), has continued the Export Administration Regulations in effect under the International Emergency Economic Powers Act. BIS continues to carry out the provisions of the Export Administration Act, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the entities being added to the Entity List. If the effective date of this rule were delayed to allow for notice and comment, then the entities being added to the Entity List by this action would continue to be able to receive items without a license and to conduct activities contrary to the national security or foreign policy interests of the United States. In addition, publishing a proposed rule would give these parties notice of the U.S. Government's intention to place them on the Entity List and would create an incentive for these persons to either accelerate their receipt of items subject to the EAR to conduct activities that are contrary to the national security or foreign policy interests of the United States, and/or to take steps to set up additional aliases, change addresses, and/or take other measures to try to limit the impact of the listing on the Entity List once a final rule is published.

In addition to the Entity List changes described above, the changes this regulation makes to the licensing policy in three sections of the CCL based controls part of the EAR (§§ 742.2, 742.3, and 742.4) involve a military or foreign affairs function of the United States. (See 5 U.S.C. 553(a)(1)). These licensing policy changes are needed in order to protect U.S. national and foreign policy interests. These changes make clear that BIS's review of license applications for exports, reexports and transfers (in-country) to Russia will take into account and protect U.S. national security interests. This review policy is needed in order to protect U.S. national security interests and to ensure the efficacy of existing sanctions on Russia for violating international law and fueling the conflict in eastern Ukraine.

Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects

15 CFR Part 742

Exports, Terrorism.

15 CFR Part 744

Exports, Reporting and recordkeeping requirements, Terrorism.

For the reasons stated in the preamble, the Bureau of Industry and Security amends parts 742 and 744 of the Export Administration Regulations (15 CFR parts 730-774) as follows:

PART 742—[AMENDED]

1. The authority citation for 15 CFR part 742 continues to read as follows:

Authority: 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 12, 2015, 80 FR 70667 (November 13, 2015); Notice of August 4, 2016, 81 FR 52587 (August 8, 2016).

2. Section 742.2 is amended by revising paragraph (b)(4) to read as follows:

§ 742.2 Proliferation of chemical and biological weapons.

* * * * *

(b) * * *

(4) License applications for items described in paragraph (a) of this section, when destined for the People's Republic of China or Russia, will be reviewed in accordance with the licensing policies in both paragraph (b) of this section and § 742.4(b)(7).

* * * * *

3. Section 742.3 is amended by revising paragraph (b)(4) to read as follows:

§ 742.3 Nuclear nonproliferation.

* * * * *

(b) * * *

(4) License applications for items described in paragraph (a) of this section, when destined to the People's Republic of China or Russia, will be reviewed in accordance with the licensing policies in both paragraph (b) of this section and § 742.4(b)(7).

* * * * *

4. Section 742.4 is amended by revising paragraph (b)(7) to read as follows:

§ 742.4 National security.

* * * * *

(b) * * *

(7) For the People's Republic of China (PRC), there is a general policy of approval for license applications to export, reexport, or transfer items to civil end-uses. There is a presumption of denial for license applications to export, reexport or transfer items that would make a direct and significant contribution to the PRC's or Russia's military capabilities such as, but not limited to, the major weapons systems described in Supplement No. 7 to part 742 of the EAR.

* * * * *

PART 744—[AMENDED]

5. The authority citation for 15 CFR part 744 continues to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 12, 2015, 80 FR 70667 (November 13, 2015); Notice of January 20, 2016, 81 FR 3937 (January 22, 2016); Notice of August 4, 2016, 81 FR 52587 (August 8, 2016); Notice of September 15, 2016, 81 FR 64343 (September 19, 2016).

6. Supplement No. 4 to part 744 is amended:

a. By adding under the destination of Crimea region of Ukraine, in alphabetical order, two entities; and

b. By adding under the destination of Russia, in alphabetical order, twenty-one Russian entities.

The additions read as follows:

Supplement No. 4 to Part 744—Entity List

* * * * *

Country | Entity | License requirement | License review policy | Federal Register citation
* * * * * * *
CRIMEA REGION OF UKRAINE | * * * * * *
| Crimean Ports, a.k.a., the following three aliases: —State Unitary Enterprise of the Republic of Crimea `Crimean Ports'; —Sue RC `KMP'; and —Sue RK `Crimean Ports'. 28 Kirov Street, Kerch, Crimea Region of Ukraine 98312. | For all items subject to the EAR. (See § 744.11 of the EAR). | Presumption of denial | 81 FR [INSERT FR PAGE NUMBER AND 12/27/16].
| Crimean Railway, a.k.a., the following three aliases: —Federal State Unitary Enterprise `Crimean Railway'; —Krymzhd; and —The Railways of Crimea. 34 Pavlenko Street, Simferopol, Crimea Region of Ukraine 95006. | For all items subject to the EAR. (See § 744.11 of the EAR). | Presumption of denial | 81 FR [INSERT FR PAGE NUMBER AND DATE OF 12/27/16].
| * * * * * *
* * * * * * *
RUSSIA | * * * * * *
| DJSC Factory Krasnoe Znamya, a.k.a., the following five aliases: —OJSC Factory Krasnoe Znamya; —OAO Zavod Krasnoe Znamya; —AO Krasnoye Znamya; —Krasnoye Znamya Plant OAO; and —Krasnoye Znamya Plant JSC. Shabulina Travel 2a, Ryazan, 390043, Russia. | For all items subject to the EAR. (See § 744.11 of the EAR). | Presumption of denial | 81 FR [INSERT FR PAGE NUMBER AND 12/27/16].
| * * * * * *
| Ekran Scientific Research Institute, FSUE, a.k.a., the following one alias: —FGUP Ekran. Kirov Avenue 24, Samara 443022, Russia; and Krzhizhanovskogo Street 20/30, Moscow, 117218, Russia. | For all items subject to the EAR. (See § 744.11 of the EAR). | Presumption of denial | 81 FR [INSERT FR PAGE NUMBER AND 12/27/16].
| * * * * * *
| ElTom Research and Production Company, a.k.a., the following one alias: —NPP ElTom. Garshin Street 11, Tomilino, Lyuberetsky, Moscow, 140070, Russia. | For all items subject to the EAR. (See § 744.11 of the EAR). | Presumption of denial | 81 FR [INSERT FR PAGE NUMBER AND 12/27/16].
| * * * * * *
| FSUE FNPC Nizhegorodsky Scientific Research Institute of Radiotechnics (NNIIRT), Shaposhnikov Street 5, Nizhny Novgorod, 603950, Russia. | For all items subject to the EAR. (See § 744.11 of the EAR). | Presumption of denial | 81 FR [INSERT FR PAGE NUMBER AND 12/27/16].
| * * * * * *
| Institut Stroiproekt, AO, a.k.a., the following six aliases: —Aktsionernoe Obshcestvo Institut Stroiproekt; —AO Institut Stroiproekt; —AO Institute Stroyproekt (f.k.a., Institut Stroiproekt Zakrytoe Aktsionernoe Obshchestvo); —Institute Stroyproect; —Stroyproekt; and —Stroyproekt Engineering Group. D. 13 Korp. 2 LiteraA Prospekt Dunaiski, St. Petersburg 196158, Russia; and 13/2 Dunaisky Prospect, St. Petersburg 196158, Russia. | For all items subject to the EAR. (See § 744.11 of the EAR). | Presumption of denial | 81 FR [INSERT FR PAGE NUMBER AND 12/27/16].
| * * * * * *
| JSC GOZ Obukhov Plant, a.k.a., the following one alias: —GOZ Obukhov Plant. Prospekt Obukhovskoi Oboroni 120, Saint Petersburg, 192012, Russia. | For all items subject to the EAR. (See § 744.11 of the EAR). | Presumption of denial | 81 FR [INSERT FR PAGE NUMBER AND 12/27/16].
| JSC Institute of Instrumentation—Novosibirsk Plant Comintern (NPO NIIP-NZIK), Planetnaya Street 32, Novosibirsk, 630015, Russia. | For all items subject to the EAR. (See § 744.11 of the EAR). | Presumption of denial | 81 FR [INSERT FR PAGE NUMBER AND 12/27/16].
| JSC Scientific Research Institute of Aircraft Equipment (NIIAO), a.k.a., the following three aliases: —SRIAE; —NIIAO; and —Aviation Instrument Scientific Research Institute. Tupoleva 18, Zhukovsky, Moscow, 140182, Russia. | For all items subject to the EAR. (See § 744.11 of the EAR). | Presumption of denial | 81 FR [INSERT FR PAGE NUMBER AND 12/27/16].
| * * * * * *
| Kaluga Scientific Research Radio Technology Institute (KRRTI), a.k.a., the following two aliases: —KNIRTI; and —KRRTI. Lenin Street 2, Zhukov, Kaluga Oblast, 249192, Russia. | For all items subject to the EAR. (See § 744.11 of the EAR). | Presumption of denial | 81 FR [INSERT FR PAGE NUMBER AND 12/27/16].
| * * * * * *
| Karst, OOO, a.k.a., the following four aliases: —Construction Holding Company Old City—Karst; —Karst Ltd.; —LLC Karst; and —Obshcestvo S Ogranichennoi Otvetstvennostyu Karst. D. 4 Litera A Pomeshchenie 69 ul. Kapitanskaya, St. Petersburg 199397, Russia; and 4 Kapitanskaya Street, Unit A, Office 69-N, St. Petersburg 199397, Russia. | For all items subject to the EAR. (See § 744.11 of the EAR). | Presumption of denial | 81 FR [INSERT FR PAGE NUMBER AND 12/27/16].
| * * * * * *
| LLC Ruschemtrade, St. Mashinostroitelnyj, 3, Rostov-on-Don 344090, Russia; and 86/1, Temryuk, Krasnodar 353500, Russia. | For all items subject to the EAR. (See § 744.11 of the EAR). | Presumption of denial | 81 FR [INSERT FR PAGE NUMBER AND 12/27/16].
| * * * * * *
| OAO All-Russia Research Institute of Radio Equipment (JSC VNIIRA), a.k.a., the following three aliases: —OJSC VNIIRA; —OAO All-Russia Research Institute of Radio Technology; and All-Russian Scientific Research Institute of Radio Equipment. Shkipersky Protok 19, V.I. St. Petersburg, 199106, Russia. | For all items subject to the EAR. (See § 744.11 of the EAR). | Presumption of denial | 81 FR [INSERT FR PAGE NUMBER AND 12/27/16].
| * * * * * *
| OJSC Ural Production Company Vector (UPP Vector), a.k.a., the following two aliases: —JSC `SCP' Vector; and —JSC PPM Vector. Gagarin Street 28, Ekaterinburg, 620078, Russia. | For all items subject to the EAR. (See § 744.11 of the EAR). | Presumption of denial | 81 FR [INSERT FR PAGE NUMBER AND 12/27/16].
| * * * * * *
| Olid Ltd., a.k.a., the following one alias: —OOO Solid. ul Mira 4, Novorossiysk, Krasnodarskiy kray 630024, Russia. | For all items subject to the EAR. (See § 744.11 of the EAR). | Presumption of denial | 81 FR [INSERT FR PAGE NUMBER AND 12/27/16].
| * * * * * *
| Research and Production Association KVANT, a.k.a., the following one alias: —NPO Kvant. Bolshaya Saint Petersburg 73, Velikii-Novgorod 173003, Russia. | For all items subject to the EAR. (See § 744.11 of the EAR). | Presumption of denial | 81 FR [INSERT FR PAGE NUMBER AND 12/27/16].
| Research and Production Association M.V. Frunze, a.k.a., the following two aliases: —NNPO Frunze; and —NZIF. Gagarin Prospect 174, Nizhny Novgorod, 606950, Russia. | For all items subject to the EAR. (See § 744.11 of the EAR). | Presumption of denial | 81 FR [INSERT FR PAGE NUMBER AND 12/27/16].
| * * * * * *
| Ryazan State Instrument Enterprise (RSIE), a.k.a., the following two aliases: —RSIE; and —GRPZ. Seminarskaya Street 32, Ryazan, 390000, Russia. | For all items subject to the EAR. (See § 744.11 of the EAR). | Presumption of denial | 81 FR [INSERT FR PAGE NUMBER AND 12/27/16].
| * * * * * *
| Scientific and Production Association “Lianozovo Electromechanical Plant” (NPO LEMZ), a.k.a., the following four aliases: —JSC LEMZ R&P Corporation; —OAO Design Bureau Lianozovsky Radars Moscow; —Lianozovsky Electromechanical factory; and —OAO Design Bureau Lianozovsky Radars Moscow. Dmitrovskoye Shosse 110, Moscow, 127411, Russia. | For all items subject to the EAR. (See § 744.11 of the EAR). | Presumption of denial | 81 FR [INSERT FR PAGE NUMBER AND 12/27/16].
| * * * * * *
| Svyaz Design Bureau, OJSC, a.k.a., the following one alias: —KB Svyaz. Prospect Sokolova 96, Rostov-on-Don 344010, Russia. | For all items subject to the EAR. (See § 744.11 of the EAR). | Presumption of denial | 81 FR [INSERT FR PAGE NUMBER AND 12/27/16].
| * * * * * *
| Trans-Flot JSC, a.k.a., the following one alias: —JSC Trans-Flot. ul Ventseka 1/97, Samara 443099, Russia. | For all items subject to the EAR. (See § 744.11 of the EAR). | Presumption of denial | 81 FR [INSERT FR PAGE NUMBER AND 12/27/16].
| * * * * * *
| Transpetrochart Co. Ltd., Prospekt Engelsa 30, St. Petersburg 194156, Russia. | For all items subject to the EAR. (See § 744.11 of the EAR). | Presumption of denial | 81 FR [INSERT FR PAGE NUMBER AND 12/27/16].
* * * * * * *

Dated: December 20, 2016.
Eric L. Hirschhorn,
Under Secretary of Commerce for Industry and Security.

[FR Doc. 2016-31124 Filed 12-23-16; 8:45 am].

BILLING CODE 3510-33-P